DEPARTMENT OF STATE

[Public Notice 6984]

Request for Nominations of Experts for Consideration as Authors and/or Editors for the Fifth Global Environment Outlook (GEO-5)

ACTION: This is an announcement of an opportunity to recommend experts to the U.S. Government for nomination as Coordinating Lead Authors, Lead Authors, Contributing Authors and Review Editors for the Fifth Global Environment Outlook (GEO-5).

SUMMARY: Governments, along with other stakeholder groups, relevant institutions, and United Nations agencies, have been invited to nominate experts to participate in the GEO-5 assessment. The Department of State is coordinating the recommendation of experts to the United Nations Environment Programme (UNEP) for GEO-5. The purpose of GEO-5 is to provide a comprehensive, integrated, and scientifically credible global environmental assessment to support decision-making processes at appropriate levels. Individuals may seek to nominate others (or themselves) directly on http://www.unep.org/geo/nominations/, or through the U.S. government. For those who wish to submit their nominations through the U.S. government, your nomination must be submitted to UNEP at the Web site above, and the nomination must also be received at the U.S. Department of State, Office of Environmental Policy, which is coordinating the U.S. Government nomination process, no later than May 12, 2010. The remainder of this announcement provides background information and describes how to submit recommendations.

The Global Environment Outlook is the primary assessment process of the UN Environment Programme (UNEP), which helps keep the global environment under review. It is a tool that informs decision-making, focusing on assessment priorities and analyzing policy challenges and opportunities to provide policy response options. It is also a communications tool that brings together diverse stakeholder groups, builds capacity and aims to raise awareness on the status and trends of the environment.

Experts are expected to have a thorough understanding in one or more of the following areas: Environmental science; environment and development priorities, challenges and policy; and environmental management or governance. UNEP will select nominees by matching expertise to specific roles, paying due regard to disciplinary, gender and geographical balance. Details of the GEO-5 nominating process may be found online at http://www.unep.org/geo/nominations/ and http://www.globalchange.gov/globalenvironmentoutlook. To access the nominations form on the UNEP Web site, please use Username: geo5_2012 and Password: nominee. Nominations may be made on http://www.unep.org/geo/nominations/. For nominations to be considered within the U.S. Government nomination process, they must also be submitted to the United States Department of State. GEO-5 will review the nominations from all participating governments, individuals and organizations and make final decisions on nominees.

Selection as a U.S. Government nominee does not guarantee selection by GEO-5 itself. Participants in the GEO process volunteer their time. Nominated individuals should agree in advance to fulfill the role for which they are nominated, should they be selected to do so by GEO. Nomination by the U.S. Government to GEO-5 does not imply a commitment by the U.S. Government to provide financial support for participation.

UNEP may provide travel and subsistence costs for non-Federal participants if requested by the participant, subject to the availability of resources. Additional guidance on compensation of expenses and remuneration of services will be available on the UNEP Web site.

How to Recommend Experts

1. Refer to the GEO-5 Web site http://www.unep.org/geo/nominations/ for detailed background information on the 5th Assessment Report. To access the nominations form on the UNEP Web site, please use Username: geo5_2012 and Password: nominee. The document on GEO-5 nominations identifies the substantive areas covered in each of the chapters of the report. It is important to note that the time commitment required to carry out different roles in the GEO-5 process varies greatly.

2. Make sure that any of the experts that you wish to recommend are willing to serve in the role for which they are nominated.

3. Nominations to be considered within the U.S. Government nomination process must be submitted to the U.S. Department of State, Office of Environmental Policy no later than May 12, 2010. Complete the GEO-5 nomination form, one for each nominee, including an up-to-date CV, identification of the relevant chapters, and the role for which the individual is being nominated. Send this information by e-mail to rosenmanrg@state.gov by May 12. Please note that partial nomination packages will not be considered.

What happens next?

In a process coordinated through the U.S. Department of State, Bureau of Oceans and International Environmental and Scientific Affairs, Office of Environmental Policy, technical experts and managers of relevant science and technology programs within the U.S. government will make and review recommendations and forward a slate of nominees to GEO-5 on the basis of their qualifications. Submission of a nomination to the State Department does not guarantee that the nomination will be forwarded by the U.S. Government to UNEP.

For Further Information

Richard Rosenman of the Office of Environmental Policy, U.S. Department of State, is serving as the coordinator of this nomination process. Mr. Rosenman can be reached at 1-202-647-1126, e-mail rosenmanrg@state.gov.

Disclaimer: This Public Notice is a request for nominations, and is not a request for applications. No granting or money is directly associated with this request for suggestions for GEO-5. There is no expectation of U.S. Government resources or funding associated with any nominations.

Dated: May 3, 2010.
Willem H. Brakel,
Director, Office of Environmental Policy, Department of State.

[FR Doc. 2010-10842 Filed 5-6-10; 8:45 am]

BILLING CODE 4710-09-P